DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that were removed from OFAC's Specially Designated Nationals and Blocked Persons List (SDN List).

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On April 12, 2024, OFAC removed from the SDN List the persons listed below, which were subject to prohibitions imposed pursuant to Executive Order 14033 of June 8, 2021, “Blocking Property and Suspending Entry into the United States of Certain Persons Contributing to the Destabilizing Situation in the Western Balkans,” (E.O. 14033), 86 FR 31079 (June 10, 2021), 3 CFR 2021 Comp., p. 591. On April 12, 2024, OFAC determined that the circumstances no longer warrant the inclusion of the following persons on the SDN list under this authority. These persons are no longer subject to the blocking provisions of section 1(a) of E.O. 14033.

Individual

1. STANKOVIC, Slobodan, Bosnia and Herzegovina; DOB 01 Jan 1949; POB Banja Luka, Bosnia and Herzegovina; nationality Bosnia and Herzegovina; Gender Male (individual) [BALKANS-EO14033] (Linked To: DODIK, Milorad).

Entity

1. INTEGRAL INZENJERING A.D. LAKTASI (a.k.a. INTEGRAL INZENJERING A.D. INZENJERING-PROMET-EXPORT-IMPORT, LAKTASI; a.k.a. INTEGRAL INZENJERING PLC), Omladinska ulica 44, Laktasi 78250, Bosnia and Herzegovina; Organization Established Date 20 Nov 1989; Tax ID No. 440114505005 (Bosnia and Herzegovina); Registration Number 1-91-00 (Bosnia and Herzegovina) [BALKANS-EO14033] (Linked To: STANKOVIC, Slobodan).

Dated: April 12, 2024.
Bradley T. Smith,
Director, Office of Foreign Assets Control, U.S. Department of the Treasury.

[FR Doc. 2024-08165 Filed 4-16-24; 8:45 am]

BILLING CODE 4810-AL-P